COMMITTEE FOR PURCHASE FROM PEOPLE WHO ARE BLIND OR SEVERELY DISABLED

Procurement List; Proposed additions and deletions

AGENCY: Committee for Purchase From People Who Are Blind or Severely Disabled.

ACTION: Proposed additions to and deletions from the Procurement List.

SUMMARY: The Committee is proposing to add services to the Procurement List that will be furnished by nonprofit agencies employing persons who are blind or have other severe disabilities, and deletes products and services previously furnished by such agencies.

DATES: Comments must be received on or before: January 12, 2020.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the services listed below from nonprofit agencies employing persons who are blind or have other severe disabilities.

The following services are proposed for addition to the Procurement List for production by the nonprofit agencies listed:

Services

Service Type: Custodial Service

Mandatory for: Department of Defense Education Activity, Fort Campbell Schools, Fort Campbell, KY

Mandatory Source of Supply: Global Connections to Employment, Inc., Pensacola, FL

Contracting Activity: DEPT OF DEFENSE EDUCATION ACTIVITY (DODEA), DOD EDUCATION ACTIVITY

Service Type: Information Technology Support

Mandatory for: U.S. Air Force, 96th Medical Group, Eglin AFB, FL

Mandatory Source of Supply: Global Connections to Employment, Inc., Pensacola, FL

Contracting Activity: DEPT OF THE AIR FORCE, FA2823 AFTC PZIO

Service Type: Conference Center Management

Mandatory for: DHS, Transportation Security Administration Headquarters, Springfield, VA

Mandatory Source of Supply: Didlake, Inc., Manassas, VA

Contracting Activity: TRANSPORTATION SECURITY ADMINISTRATION, WEO

Service Type: Centralized Appointment Call Center

Mandatory for: U.S. Air Force, Medical Treatment Facility, Eglin Air Force Base, FL

Mandatory Source of Supply: Bobby Dodd Institute, Inc., Atlanta, GA

Contracting Activity: DEPT OF THE AIR FORCE, FA2823 AFTC PZIO

Deletions

The following products and services are proposed for deletion from the Procurement List:

Products

NSN(s)—Product Name(s):

MR 11052—Grocery Shopping Tote Bag, Laminated, Spring, Yellow, Small

Mandatory Source of Supply: Industries for the Blind and Visually Impaired, Inc., West Allis, WI

Contracting Activity: Defense Commissary Agency

NSN(s)—Product Name(s):

6530-00-761-0932—Urine Collection Bag, 32 oz. Capacity

6530-00-761-0936—Urine Collection Bag, 26 oz. Capacity

6530-00-NSH-0028—Bag, Urine Collection, Enhanced, Large, 32 oz.

6530-00-NSH-0029—Bag, Urine Collection, Enhanced, Medium, 26 oz.

6530-00-NSH-0030—Bag, Urine Collection, Enhanced, Moleskin Backing, Large, 32 oz.

6530-00-NSH-0031—Bag, Urine Collection, Enhanced, Inlet Extension, Large, 32 oz.

6530-00-NSH-0032—Bag, Urine Collection, Enhanced, Drain Extension, Large, 32 oz.

6530-00-NSH-0033—Bag, Urine Collection, Enhanced, Moleskin Backing, Inlet Extension, Large, 32 oz.

6530-00-NSH-0034—Bag, Urine Collection, Enhanced, Moleskin, Drain Extension, Large, 32 oz.

6530-00-NSH-0035—Bag, Urine Collection, Enhanced, Inlet and Drain Extension, Large, 32 oz.

6530-00-NSH-0036—Bag, Urine Collection, Enhanced, Moleskin, Inlet and Drain Extension, Large, 32 oz.

6530-00-NSH-0037—Bag, Urine Collection, Enhanced, Moleskin, Medium, 26 oz.

6530-00-NSH-0038—Bag, Urine Collection, Enhanced, Inlet Extension, Medium, 26 oz.

6530-00-NSH-0039—Bag, Urine Collection, Enhanced, Drain Extension, Medium, 26 oz.

6530-00-NSH-0040—Bag, Urine Collection, Enhanced, Moleskin, Inlet Extension, Medium, 26 oz.

6530-00-NSH-0041—Bag, Urine Collection, Enhanced, Moleskin, Drain Extension, Medium, 26 oz.

6530-00-NSH-0042—Bag, Urine Collection, Enhanced, Inlet and Drain Extension, Medium, 26 oz.

6530-00-NSH-0043—Bag, Urine Collection, Enhanced, Moleskin, Inlet and Drain Extension, Medium, 26 oz.

6530-00-NSH-0044—Fecal Incontinence Collection Bag, Clear Plastic, Small, 10 oz.

6530-00-NSH-0045—Fecal Incontinence Collection Bag, Clear Plastic, Large, 19 oz.

Mandatory Source of Supply: Work, Incorporated, Dorchester, MA

Contracting Activity: STRATEGIC ACQUISITION CENTER, FREDERICKSBURG, VA

NSN(s)—Product Name(s):

6515-00-481-2049—Bag, Gravity Enteral Feeding

Mandatory Source of Supply: Work, Incorporated, Dorchester, MA

Contracting Activity: STRATEGIC ACQUISITION CENTER, FREDERICKSBURG, VA

Services

Service Type: Recycling Service

Mandatory for: Cape Cod National Seashore, Wellfleet, MA

Mandatory Source of Supply: capeAbilities, Inc., Hyannis, MA

Contracting Activity: OFFICE OF POLICY, MANAGEMENT, AND BUDGET, NBC ACQUISITION SERVICES DIVISION

Service Type: Toner Cartridge Remanufacturing

Mandatory for: Bighorn National Forest, Sheridan, WY

Mandatory Source of Supply: Community Option Resource Enterprises, Inc. (COR Enterprises), Billings, MT

Contracting Activity: AGRICULTURE, DEPARTMENT OF, PROCUREMENT OPERATIONS DIVISION

Service Type: Janitorial/Custodial

Mandatory for: Blue Mountain: Crazy Canyo, Pattee Canyon and Howard Creek, Missoula, MT

Contracting Activity: AGRICULTURE, DEPARTMENT OF, PROCUREMENT OPERATIONS DIVISION

Service Type: Document Destruction

Mandatory for: Department of Agriculture, Farm Service Agency, Farm Service Agency: 6501 Beacon Drive, Kansas City, MO

Mandatory Source of Supply: JobOne, Independence, MO

Contracting Activity: FARM SERVICE AGENCY, KANSAS CITY ACQUISITION BRANCH

Service Type: Mailing Services

Mandatory for: Government Printing Office—Laurel Warehouse: 8610 & 8660 Cherry Lane, Laurel, MD

Mandatory Source of Supply: Alliance, Inc., Baltimore, MD

Contracting Activity: Government Printing Office

Service Type: Grounds Maintenance

Mandatory for: The Kennedy Center, Washington, DC

Mandatory Source of Supply: Lt. Joseph P. Kennedy Institute, Washington, DC

Contracting Activity: OFFICE OF POLICY, MANAGEMENT, AND BUDGET, NBC ACQUISITION SERVICES DIVISION

Service Type: Operation of Postal Service Center

Mandatory for: Andrews Air Force Base, Andrews AFB, MD

Contracting Activity: DEPT OF THE AIR FORCE, FA7014 AFDW PK

Service Type: Grounds Maintenance

Mandatory for: Fort McPherson, Fort McPherson, GA

Contracting Activity: DEPT OF THE ARMY, W6QM MICC-FDO FT SAM HOUSTON

Service Type: Custodial Services

Mandatory for: DHS—Customs & Border Protection: 5401 Coffee Drive, New Orleans, LA

Mandatory Source of Supply: Goodworks, Inc., New Orleans, LA

Contracting Activity: U.S. CUSTOMS AND BORDER PROTECTION, PROCUREMENT DIRECTORATE

Service Type: Janitorial Services

Mandatory for: USDA, ARS Grassland, Soil and Water Research Laboratory, 808 East Blackland Road, Temple, TX

Mandatory Source of Supply: Rising Star Resource Development Corporation, Dallas, TX

Contracting Activity: AGRICULTURAL RESEARCH SERVICE, USDA ARS SPA 7MN1

Michael R. Jurkowski,
Deputy Director, Business & PL Operations.

[FR Doc. 2019-26939 Filed 12-12-19; 8:45 am]

BILLING CODE 6353-01-P